DEPARTMENT OF DEFENSE

Department of the Air Force

Notice of Intent (NOI) To Prepare Environmental Impact Statement(EIS) for F-35 Force Development Evaluation and Weapons School Permanent Beddown at Nellis AFB, NV

AGENCY: Air Combat Command, United States Air Force.

ACTION: Notice of intent.

SUMMARY: Pursuant to the National Environmental Policy Act(NEPA) of 1969, as amended (42 U.S.C. 4321 et seq.), the Council on Environmental Quality (CEQ) Regulations for Implementing the Procedural Provisions of NEPA (40 CFR parts 1500-1508), and Air Force policy and procedures (32 CFR part 989), the Air Force is issuing this notice to advise the public of its intent to prepare an Environmental Impact Statement (EIS) to assess the potential environmental impacts of stationing F-35 tactical fighter aircraft at Nellis Air Force Base (AFB), Nevada.

A total of 36 F-35 aircraft would be permanently based at Nellis AFB in support of the Force Development Evaluation (FDE) mission and the United States Air Force Weapons School (USAFWS). The FDE mission is to test and evaluate state-of-the-art weapons systems and develop leading-edge tactics to improve the future combat capability of Air Force aerospace forces. The USAFWS mission is to teach graduate-level instructor courses, which provide advanced training in weapons and tactics employment to officers of the combat air forces. The beddown would occur in phases between the years 2009 and 2028. The proposed action would also include facility construction on Nellis AFB to be accomplished over a 3-year period, beginning in fiscal year 2007. The Air Force will consider all environmental issues supporting the beddown, however, the Air Force has currently identified air quality and noise as issues requiring detailed analysis.

The Air Force will host a series of scoping meetings to receive public input on alternatives, concerns, and issues to be addressed in the EIS. The schedule and locations of the scoping meetings are as follows:

Monday, September 13, 2004 | Carson City Plaza Hotel, 801 S. Carson Street.
Tuesday, September 14, 2004 | Alamo,Lincoln County Annex, 100 South First West Street.
Wednesday, September 15, 2004 | Pioche,Pioche Town Hall,Hinman and Main Streets.
Thursday, September 16, 2004 | Pahrump Bob Ruud Community Center, 150 N. Highway 160—Room B.
Friday, September 17, 2004 | Las Vegas,Hollywood Recreation Center 1650, S. Hollywood.

The Air Force will accept comments at any time during the environmental analysis process. However, to ensure the Air Force has sufficient time to consider public input in the preparation of the Draft EIS, comments should be submitted to the address below by October 1, 2004.

FOR FURTHER INFORMATION CONTACT: Ms. Sheryl Parker, HQ ACC/CEVP, 129 Andrews St., Suite 102, Langley AFB, VA 23665-2769, (757-764-9334).

Pamela Fitzgerald,
Air Force Federal Register Liaison Officer.

[FR Doc. 04-19198 Filed 8-20-04; 8:45 am]

BILLING CODE 5001-05-P